ENVIRONMENTAL PROTECTION AGENCY

40 CFR Part 52

[MI76-01-7285a, FRL-7023-2]

Approval and Promulgation of Maintenance Plan Revisions; Michigan

AGENCY: Environmental Protection Agency.

ACTION: Direct final rule.

SUMMARY: The Environmental Protection Agency (EPA) is approving a March 22, 2001, request from Michigan for a State Implementation Plan (SIP) revision of the Muskegon County ozone maintenance plan. The maintenance plan revision establishes a new transportation conformity Mobile Vehicle Emissions Budget (MVEB) for the year 2010. EPA is approving the allocation of a portion of the safety margin for Volatile Organic Compounds (VOC) and Oxides of Nitrogen (NOX) to the area's 2010 MVEB for transportation conformity purposes. This allocation will still maintain the total emissions for the area at or below the attainment level required by the transportation conformity regulations.

DATES: This rule is effective on October 5, 2001, unless EPA receives adverse written comments by September 5, 2001. If EPA receives adverse comments, EPA will publish a timely withdrawal of the rule in the Federal Register and inform the public that the rule will not take effect.

ADDRESSES: You may inspect copies of the documents relevant to this action during normal business hours at the following location: Regulation Development Section, Air Programs Branch, (AR-18J), U.S. Environmental Protection Agency, Region 5, 77 West Jackson Boulevard, Chicago, Illinois, 60604.

Please contact Michael Leslie at (312) 353-6680 before visiting the Region 5 office.

Send written comments to: Carlton Nash, Chief, Regulation Development Section, Air Programs Branch, (AR-18J), U.S. Environmental Protection Agency, Region 5, 77 West Jackson Boulevard, Chicago, Illinois, 60604.

FOR FURTHER INFORMATION CONTACT: Michael G. Leslie, Environmental Engineer, Regulation Development Section, Air Programs Branch (AR-18J), U.S. Environmental Protection Agency, Region 5, 77 West Jackson Boulevard, Chicago, Illinois 60604, (312) 353-6680.

SUPPLEMENTARY INFORMATION: This Supplementary Information section is organized as follows:

What action is EPA taking today?

Who Is affected by this action?

How did the State support this request?

What is transportation conformity?

What is an emissions budget?

What is a safety margin?

How does this action change the Muskegon County ozone maintenance plan?

Why is the request approvable?

When will EPA take comments on this action?

EPA Action

Administrative Requirements

What Action Is EPA Taking Today?

EPA is approving a revision to the ozone maintenance plan for Muskegon County, Michigan. The revision will change the MVEB for VOC and NOX that is used for transportation conformity purposes. The revision will keep the total emissions for the area below the attainment level required by law. This action will allow state or local agencies to maintain air quality while providing for transportation growth.

Who Is Affected by This Action?

Primarily, this revision will affect the transportation sector represented by West Michigan Regional Planning Commission, the Michigan Department of Transportation and persons traveling through Muskegon County. The conformity rule, provides that if a “safety margin” exists in a state's maintenance plan, then the state may allocate the safety margin to the transportation sector via the mobile source budget.

How Did the State Support This Request?

On March 22, 2001, Michigan submitted to EPA a SIP revision request for the Muskegon County ozone maintenance area. The Michigan Department of Environmental Quality (MDEQ) held a public hearing on this proposal on March 1, 2001. No one from the public commented on the proposed revisions.

In the submittal, Michigan requested a new 2010 MVEB for VOC and NOX for the Muskegon County, Michigan, ozone maintenance area. The State requested that 2.14 tons/day VOC and 3.27 tons/day of NOX be allocated from the maintenance plan's safety margin to the MVEB. The MVEB is used for transportation conformity purposes.

What Is Transportation Conformity?

Transportation conformity means that the level of emissions from the transportation sector (cars, trucks and buses) must be consistent with the requirements in the SIP to attain and maintain the air quality standards. Section 176(c) of Clean Air Act, 42 U.S.C. 7506(c), that transportation plans, programs and projects conform to an effective implementation plan. On November 24, 1993, EPA published a final rule establishing criteria and procedures for determining whether transportation plans, programs and projects funded or approved under Title 23 of the U.S. Code or the Federal Transit Act conform to the SIP.

The transportation conformity rules require an ozone maintenance area, such as Muskegon County, to compare the actual projected emissions from cars, trucks and buses on the highway network, to the MVEB established by a maintenance plan. The Muskegon County area has an approved ozone maintenance plan. Our approval of the maintenance plan established the MVEB for transportation conformity purposes.

What Is An Emissions Budget?

An emissions budget is the level of controlled emissions from the transportation sector (mobile sources) projected by the state and included in the SIP. The SIP controls emissions through regulation, for example, of fuels and exhaust levels for cars. The emissions budget concept is further explained in the preamble to the November 24, 1993, transportation conformity rule (58 FR 62188). The preamble also describes how states establish the MVEB in the SIP and revise the emissions budget. The transportation conformity rule allows a state to change its MVEB as long as the total level of emissions from all sources remains below the attainment level.

What Is a Safety Margin?

A “safety margin” is the difference between the attainment level of emissions (from all sources) and the projected level of emissions (from all sources) in the maintenance plan. The attainment level of emissions is the level of emissions during one of the years in which the area met the air quality health standard. For example: Muskegon County monitored attainment of the one hour ozone standard during the 1996-1998 time period. The State used 1996 as the attainment level of emissions for Muskegon County. The emissions from point, area and mobile sources in 1996 equaled 32.54 tons per day of VOC and 32.21 tons per day of NOX. The MDEQ projected emissions out to the year 2010 and projected a total of 24.36 tons per day of VOC and 25.93 tons per day of NOX from all sources in Muskegon County. The safety margin for Muskegon County is the difference between these amounts, or 8.18 tons per day of VOC and 6.28 tons per day of NOX.

Tables 1 and 2 give detailed information on the estimated emissions from each source category and the safety margin calculation. The 2010 emission projections reflect the point, area and mobile source reductions and are illustrated in Tables 1 and 2

Table 1.—Muskegon County VOC Emissions Budget
Source category | 1996 | 2010
Point | 5 | 4
Area | 19 | 14
On-Road Mobile | 8.54 | 6.36
Total | 32.54 | 24.36

Safety Margin = 1996 total emissions − 2010 total emissions = 8.18 tons/day VOC

Table 2.—Muskegon County NOX Emissions Budget
Source category | 1996 | 2010
Point | 16 | 15
Area | 6 | 4
On-Road Mobile | 10.21 | 6.93
Total | 32.21 | 25.93

Safety Margin = 1996 total emissions − 2010 total emissions = 6.28 tons/day NOX

The emissions are projected to maintain the area's air quality consistent with the air quality health standard. Michigan requests that only a portion of the safety margin credit be allocated to the transportation sector. The total emission level, even with this allocation, will be below the attainment level or safety level and, therefore, is acceptable.

How Does This Action Change the Muskegon County Ozone Maintenance Plan?

Approval of Michigan's revised safety margin and MVEB raises the VOC and NOX emissions for the MVEB. The maintenance plan is designed to provide for future growth while still maintaining the ozone air quality standard. Growth in industries, population, and traffic is offset with reductions from cleaner cars and other emission reduction programs. Through the maintenance plan the state and local agencies can manage and maintain air quality while providing for growth.

In the submittal, Michigan allocates part of the Muskegon County area's safety margin to the MVEB. The area's safety margin is the difference between the 1996 attainment inventory year and the 2010 projected emissions inventory (8.18 tons/day VOC safety margin, and 6.28 tons/day NOX safety margin) as shown in Tables 1 and 2. The SIP revision requests the allocation of 2.14 tons/day VOC and 3.27 tons/day of NOX into the area's MVEB from the safety margin. The 2010 VOC and NOX MVEB budget showing the safety margin allocations that will be used for transportation conformity purposes are outlined in Tables 3 and 4.

Tables 3 and 4, below, illustrate that the requested portion of the safety margin can be allocated to the 2010 mobile source budget and that total emissions will still remain below the 1996 attainment level of total emissions for the Muskegon County maintenance area. Since the area would still be below the 1996 attainment level for the total emissions, the conformity rule allows this allocation.

Table 3.—Allocation of Safety Margin to the 2010 MVEB, Muskegon County VOC Emissions (tons/day)
Source category | 2010
Point | 14
Area | 4
On-Road Mobile | 8.5
Total | 26.5

Remaining Safety Margin = 1996 total emissions − 2010 total emissions = 6.04 tons/day VOC

Table 4.—Allocation of Safety Margin to the 2010 MVEB, Muskegon County NOX Emissions (tons/day)
Souce category | 2010
Point | 15
Area | 4
On-Road Mobile | 10.2
Total | 29.2

Remaining Safety Margin = 1996 total emissions − 2010 total emissions = 3.01 tons/day VOC

Why Is the Request Approvable?

The requested allocation of the safety margin for the Muskegon County area is approvable because the new MVEB for VOC and NOX maintains the total emissions for the area below the attainment year inventory level as required by the transportation conformity regulations. The conformity rule allows this allocation because the area would still be below the 1996 attainment level for the total emissions.

The EPA believes the motor vehicle emissions budgets for VOC and NOX are adequate for conformity purposes and approvable as part of the maintenance plan.

When Will EPA Take Comments on This Action?

Interested parties may comment on the adequacy and approval of the budgets by submitting their comments on this direct final rule.

If EPA receives adverse written comments with respect to the adequacy and approval of the Muskegon budgets, or any other aspect of our approval of this SIP, by the time the comment period closes, we will publish a timely withdrawal of the direct final rule informing the public that the rule will not take effect. In this case, we will either respond to the comments on the emissions budgets in our final action or proceed with the adequacy process as a separate action.

We will also announce our action on the Muskegon emissions budgets on EPA's conformity website: http://www.epa.gov/oms/traq, (once there, click on the “Conformity” button, then look for “Adequacy Review of SIP Submissions for Conformity”).

EPA Action

EPA is approving the requested allocation of the safety margin to the VOC and NOX MVEB for the Muskegon County ozone maintenance area.

EPA is publishing this action without prior proposal, because EPA views this as a noncontroversial revision and anticipates no adverse comments. However, in a separate document in this Federal Register publication, EPA is proposing to approve the SIP revision should adverse written comments be filed. This action will be effective without further notice unless EPA receives relevant adverse written comments by September 5, 2001. Should the Agency receive such comment, we will publish a final rule informing the public that this action will not take effect. Any parties interested in commenting on this action should do so at this time. If we do not receive comments, this action will be effective on October 5, 2001.

Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate, nor does it significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Act. This rule also is not subject to Executive Order 13045 (62 FR 19885, April 23, 1997), because it is not economically significant.

Section 12(d) of the National Technology Transfer and Advancement Act of 1995 (NTTA), 15 U.S.C. 272, requires federal agencies to use technical standards that are developed or adopted by voluntary consensus to carry out policy objectives, so long as such standards are not inconsistent with applicable law or otherwise impracticable. In reviewing SIP submissions, EPA's role is to approve state choices, provided that they meet the criteria of the Act. Absent a prior existing requirement for the state to use voluntary consensus standards, EPA has no authority to disapprove a SIP submission for failure to use such standards, and it would thus be inconsistent with applicable law for EPA to use voluntary consensus standards in place of a SIP submission that otherwise satisfies the provisions of the Act. Therefore, the requirements of section 12(d) of the NTTA do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the Attorney General's Supplemental Guidelines for the Evaluation of Risk and Avoidance of Unanticipated Takings” issued under the executive order, and has determined that the rule's requirements do not constitute a taking. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA has submitted a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective October 5, 2001 unless EPA receives adverse written comments by September 5, 2001.

Under section 307(b)(1) of the Clean Air Act, petitions for judicial review of this action must be filed in the United States Court of Appeals for the appropriate circuit by October 5, 2001. Filing a petition for reconsideration by the Administrator of this final rule does not affect the finality of this rule for the purposes of judicial review, nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Intergovernmental relations, Ozone, Reporting and recordkeeping requirements, Volatile Organic Compound, Transportation conformity.

Dated: July 23, 2001.
David Ullrich,
Acting Regional Administrator, Region 5.

Part 52, chapter I, title 40 of the Code of Federal Regulations is amended as follows:

PART 52—[AMENDED]

1. The authority citation for part 52 continues to read as follows:

Authority: 42 U.S.C. 7401 et seq.

Subpart YY—Michigan

2. Section 52.1174 is amended by adding paragraph (u) to read as follows:

§ 52.1174 Control strategy: Ozone.

* * * * *

(u) Approval—On March 22, 2001, Michigan submitted a revision to the ozone maintenance plan for the Muskegon County area. The revision consists of allocating a portion of the Muskegon County area's Volatile Organic Compounds (VOC) and Oxides of Nitrogen (NOX) safety margin to the transportation conformity Motor Vehicle Emission Budget (MVEB). The MVEB for transportation conformity purposes for the Muskegon County area are now: 8.5 tons per day of VOC emissions and 10.2 tons per day of NOX emissions for the year 2010. This approval only changes the VOC and NOX transportation conformity MVEB for Muskegon County.

* * * * *

[FR Doc. 01-19458 Filed 8-3-01; 8:45 am]

BILLING CODE 6560-50-P